DEPARTMENT OF THE INTERIOR

National Park Service

[N6778; NPS-WASO-NAGPRA-NPS0041543; PPWOCRADN0-PCU00RP14.R50000]

Notice of Inventory Completion: The University of Tennessee, Department of Anthropology, Knoxville, TN

AGENCY: National Park Service, Interior.

ACTION: Notice.

SUMMARY: In accordance with the Native American Graves Protection and Repatriation Act (NAGPRA), the University of Tennessee, Knoxville, Department of Anthropology (UTK) has completed an inventory of human remains and has determined that there is a cultural affiliation between the human remains and Indian Tribes or Native Hawaiian organizations in this notice.

DATES: Repatriation of the human remains in this notice may occur on or after January 20, 2026.

ADDRESSES: Send written requests for repatriation of the human remains in this notice to Dr. Ellen Lofaro, University of Tennessee, Office of Repatriation, 5723 Middlebrook Pike, Knoxville, TN 37996, email nagpra@utk.edu.

SUPPLEMENTARY INFORMATION: This notice is published as part of the National Park Service's administrative responsibilities under NAGPRA. The determinations in this notice are the sole responsibility of UTK, and additional information on the determinations in this notice, including the results of consultation, can be found in its inventory or related records. The National Park Service is not responsible for the determinations in this notice.

Abstract of Information Available

Human remains representing, at least, one individual have been identified. No associated funerary objects are present. This individual was removed from an unnamed archaeological site, (14LY304), located along the Verdigris River in Lyon County, eastern KS. 14LY304 was excavated in June of 1965 after Tom Witty, Kansas State Historical Society (KSHS) reported the Mound on the site was endangered by a flood control project and plans for dam construction in the Upper Verdigris Watershed area. Excavations were funded by the University of Kansas (KU) and field records note that the Mound was constructed from layers of limestone fragments and slabs. The 1965 excavations noted significant evidence of looting in the center of the Mound, and the only objects encountered were historic materials. The age of the 14LY304 site is currently not determined, likely due to extensive looting at the Mound. The human remains were examined by William Bass at the University of Kansas (KU) Museum of Natural History between 1965 and 1966. Bass likely retained this individual and brought them to UTK in 1971. To our knowledge, no hazardous substances were used to treat any of the remains.

Cultural Affiliation

Based on the information available and the results of consultation, cultural affiliation is clearly identified by the information available about the human remains described in this notice.

Determinations

UTK has determined that:

• The human remains described in this notice represent the physical remains of one individual of Native American ancestry.

• There is a connection between the human remains described in this notice and the Cheyenne and Arapaho Tribes, Oklahoma; Kaw Nation, Oklahoma; Omaha Tribe of Nebraska; Pawnee Nation of Oklahoma; Prairie Band Potawatomi Nation; and The Osage Nation.

Requests for Repatriation

Written requests for repatriation of the human remains in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains described in this notice to a requestor may occur on or after January 20, 2026. If competing requests for repatriation are received, UTK must determine the most appropriate requestor prior to repatriation. Requests for joint repatriation of the human remains are considered a single request and not competing requests. UTK is responsible for sending a copy of this notice to the Indian Tribes and Native Hawaiian organizations identified in this notice and any other consulting parties.

Authority: Native American Graves Protection and Repatriation Act, 25 U.S.C. 3003, and the implementing regulations, 43 CFR 10.10.

Dated: December 4, 2025.
Melanie O'Brien,
Manager, National NAGPRA Program.

[FR Doc. 2025-23349 Filed 12-18-25; 8:45 am]

BILLING CODE 4312-52-P